DEPARTMENT OF LABOR

Employment and Training Administration

[SGA/DFA-PY 06-04]

Solicitation for Grant Applications (SGA); Migrants and Seasonal Farmworkers Program SGA—National Farmworker Jobs Program, Housing Assistance

AGENCY: Employment and Training Administration (ETA), Labor.

ACTION: Notice: Amendment to SGA/DFA-PY-06-05.

SUMMARY: The Employment and Training Administration published a document in the Federal Register on April 20, 2007, announcing the availability of funds and solicitation for grant applications (SGA) for the housing assistance portion of the National Farmworker Jobs Program (NFJP), under section 167 of the Workforce Investment Act of 1998. This notice is an amendment to the SGA and it amends the Application and Submission Information section to correct the Funding Opportunity Number.

FOR FURTHER INFORMATION CONTACT: James Stockton, Grant Officer, Division of Federal Assistance, at (202) 693-3335.

Supplementary Information Correction: In the Federal Register of April 20, 2007, in FR Doc. E7-7497. The second paragraph, sixth (6th) line under “Submission Dates and Times” (page 19969). “Reference SGA/DFA PY 04-07 is amended to read”, “Reference SGA/DFA PY 06-05.”

Effective Date: This notice is effective April 27, 2007.

Signed at Washington, DC, this 23rd day of April, 2007.
James W. Stockton,
Grant Officer.

[FR Doc. E7-8107 Filed 4-26-07; 8:45 am]

BILLING CODE 4510-30-P